DEPARTMENT OF JUSTICE

Antitrust Division

Notice Pursuant to the National Cooperative Research and Production Act Of 1993—Telemanagement Forum

Notice is hereby given that, on February 1, 2010 pursuant to Section 6(a) of the National Cooperative Research and Production Act of 1993, 15 U.S.C. 4301 et seq. (“the Act”), TeleManagement Forum (“the Forum”) filed written notifications simultaneously with the Attorney General and the Federal Trade Commission disclosing changes in its membership. The notifications were filed for the purpose of extending the Act's provisions limiting the recovery of antitrust plaintiffs to actual damages under specified circumstances. Specifically, 4STARS Ltd., Zagreb, CROATIA; ACN, Inc., Concord, NC; AKT Solutions Ltd., South Croydon, UNITED KINGDOM; Albanian Mobile Communications Sh. A., Tirane, ALBANIA; Alclarus Limited, London, UNITED KINGDOM; ATLAS TELECOM Ltd, Moscow, RUSSIA; Blue Technology Corp, Taipei City, TAIWAN; Bright Consulting, Sofia, BULGARIA; Broadband Infraco (Pty) Ltd. Johannesburg, Gauteng, SOUTH AFRICA; Cable Television Laboratories Inc., Louisville, CO; CableVision, SA, Buenos Aires, ARGENTINA; CBOSS Middle East FZ-LLC, Dubai, UNITED ARAB EMIRATES; Ciminko, LUXEMBOURG; Commonwealth Bank of Australia, Sydney, NSW, AUSTRALIA; Compuware Corporation, Detroit, MI; Comware C&C International, Corp., Taipei, TAIWAN; Corel80, Fairfax, VA; CSN Technology Pty Ltd, Eveleigh, NSW, AUSTRALIA; Czech Technical University in Prague, Prague, CZECH REPUBLIC; Deutsche Bank, New York, NY; Empirix Inc., Bedford, NH; Enabling Potential, Inc., Ajax, Ontario, CANADA; Enghouse Systems Limited/Asset Management Division, Markham, Ontario, CANADA; Enterprise Designer Institute, Daylesford, VIC, AUSTRALIA; EPM Telecom unicaciones S.A. E.S.P, Medellin, Antioquia, COLOMBIA; e-Stratega S.R.L., Olivos, Buenos Aires, ARGENTINA; Etisalat Cote d'Ivoire, Abidjan, IVORY COAST; Etisalat Misr, Cairo, EGYPT; Etisalat Nigeria, Banana Island, Ikoyi, Lagos, NIGERIA; ExcelaCom, Inc., Reston, VA; EXFO (Service Assurance), Chelmsford, MA; Exigen USA, Inc., San Francisco, CA; Federal University of Espirito Santo, Vitória, Espirito Santo, BRAZIL; Forschungsinstitut für Rationalisierung, Aachen, GERMANY; Forther Ltda, Sao Paulo, SP, BRAZIL; GLOCOMP SYSTEMS (M) SDN. BHD., Petaling Jaya, Selangor, MALAYSIA; In-Corp AG, Victoria, BC, CANADA; Infosim GmbH & Co. KG, Wurzburg, GERMANY; Inidat Consulting, Capital Federal, ARGENTINA; INTEC Telecom Systems, Woking, Surrey, UNITED KINGDOM; Ipko Telecommunications LLC, Pristine, Kosova, SLOVENIA; Irdeto BSS, Carlsbad, CA; IT Management LTDA, Santiago, CHILE; IT Services Hungary LTD, Budapest, HUNGARY; Kulacom, Amman, JORDAN; MicroSigns, Inc., Montreal, Quebec, CANADA; Moov Benin, Porto-Novo, REPUBLIC OF BENIN; MOOV Central African Republic, Bangui, CENTRAL AFRICAN REPUBLIC; Moov Gabon, Liberville, GABON; Moov Togo, Lomé, TOGO; NS Solutions USA Corporation, San Mateo, CA; Nucleus Connect Pte Ltd, Singapore, SINGAPORE; OKTET Labs Ltd., St. Petersburg, RUSSIA; Omniware Solutions, Inc., Toronto, Ontario, CANADA; ORB Software and Systems PTE LTD, Singapore, SINGAPORE; OSS Evolution, Ottawa, Ontario, CANADA; Oss Wave, Gatineau, Quebec, CANADA; Pegasystems, Inc., Cambridge, MA; Praesidium, Reading, UNITED KINGDOM; PT Tricada Intronik, Bandung, Jawa Barat, INDONESIA; Qualicom Innovations (Asia) Limited, Hong Kong, HONG-KONG CHINA; RiverMuse, London, UNITED KINGDOM; SARA computing and networking services, Amsterdam, NETHERLANDS; Sincera Consulting, LLC, Manchester, NH; SMI Technologies, London, UNITED KINGDOM; ech Nexxus, LLC, Potomac, MD; Telcel Niger (Etisalat), Niamey, NIGER;Telefonica Chile S.A., Santiago, Region Metropolitana, CHILE; Telefonica Ecuador/Otecel S.A., Quito, Quito, ECUADOR; Transmode Systems AB, Stockholm, SWEDEN; uFONE, Islamabad, PAKISTAN; Unisys Consulting Spain, Madrid, SPAIN; Viettel Corporation, Hanoi, VIETNAM; Virtus IT Limited, London, UNITED KINGDOM; Vodafone Ghana, Accra North, GHANA; Volubill, Montbonnot Saint Martin, FRANCE; Voxbone, Brussels, BELGIUM; and Wiston Wolf—Engenharia e Consultoria Lda Algés, PORTUGAL, have been added as parties to this venture.

The following members have changed their names: Albanian Mobile Communications to Albanian Mobile Communications Sh. A.; Lyse Tele AS to Altibox AS; Servei de Telecomunicacions d'Andorra to Andorra Telecom; Bluetouch to Blue Technology Corp; Broadband Infraco to Broadband Infraco (Pty) Ltd; CBOSS Group to CBOSS Middle East FZ-LLC; Martin Group to CHR Solutions; Devoteam Consulting A/S to Devotearn Consulting A/S, Danish Telecoms Business Unit; EITC to DU; Empirix to Empirix Inc; Enghouse Systems Limited to Enghouse Systems Limited/Asset Management Division; e-Stratega to e-Stratega S.R.L.; EXFO America, Inc. to EXFO (Service Assurance); Exigen Group to Exigen USA, Inc.; Hitachi Telecom to Hitachi Communication Technologies America, Inc.; In-Corp to In-Corp AG; Intec Telecom Systems PLC to INTEC Telecom Systems; IBS Interprit to Irdeto ESS; IT Management to IT Management LTDA; Buddha Software to Matrixx Soft ware; MTN Group to MTN SA (Pty) ltd.; Omniware to Omniware Solutions, Inc.; ORB Software & Systems Pte Ltd to ORB SOFTWARE AND SYSTEMS PTE LTD; Packet Front to PacketFront Systems AB; Pegasystems to Pegasystems, Inc.; romonLog icalis Tecnologia SA to PromonLogicalis Tecnologia E Participacoes Ltda.; SMI Telco to SMI Technologies; TEDESCA.BIZ to TEDESCA; Telefonica Chile to Telefonica Chile S.A. (brand name Movistar Chile); Telefonica Ecuado to Tele fonica Ecuador/Otecel S.A.; Unisys Consulting to Unisys Consulting Spain.

AinaCom Oy, Hämeenlinna, FINLAND; Altran-Europe, Brussels, BELGIUM; Architecting-the-Enterprise, High Wycombe, Buckinghamshire, UNITED KINGDOM; Arismore, Saint-Cloud cedex, FRANCE; ASTELLIA, Vern Sur Seiche, FRANCE; ATG, Forbury Rd, Reading, UNITED KINGDOM; Atos Origin, Zurich, SWITZERLAND; Atreus Systems, Ottawa, Ontario, CANADA; Biap Systems, Inc., Sterling, VA; Billing College, Teaneck, NJ; Bizitek, Istanbul, TURKEY; BlackArrow, Inc., San Mateo, CA; Bren nan Software Development PTY LTD, Sydney, NSW, AUSTRALIA; Citizens Telecom Services Company L.L.C., Stamford, CT; Customer One Solutions, Inc, Cornelius, NC; Dataupia, Cambridge, MA; Edge Technologies, Fairfax, VA; Elektro Slovenija d.o.o, Ljubljana, SLOVENIA; Highdeal, Caen, FRANCE; LBS LTD, Moscow, RUSSIA; Infosys Technologies Ltd., Bangalore, INDIA; Innovative Systems, Mitchell, SD; Kentor IT AB, Stockholm, SWEDEN; Keste, LLC, Piano, TX; King Mongkut's University of Technology Thonburi, Bangmod, Toongkru, THAILAND; KPMG Advisory Spolka z ograniczona odpowiedzialnoscia sp.k, Warsaw, POLAND; Mantra Communication AB, Göteborg, SWEDEN; Metabula Ltd, Cambridge, Cambridgeshire, UNITED KINGDOM; MTN Carneroon, Douala, Littoral region, CANEROON; MTN Zambia, Lusaka, ZAMBIA; NetAge Solutions. GInbH, Munich, GERMANY; NetOne, Shina gawa-ku, Tokyo, JAPAN; NetworkedAssets GmbH, Berlin, GERMANY; Newsdesk Media Group, London, UNITED KINGDOM; ONE-ANS SpA, Monza, Milan, ITALY; Open Cloud, Wellington, NEW ZEALAND; Optima Soft, Korolev, RUSSIA; Picsel Technologies Ltd, Glaskow, UNITED KINGDOM; Polska Telefonia Cyfrowa (PTC), Warsaw, POLAND; Polystar OSIX, Farsta, SWEDEN; Reliance Communications Limited, Navi Mumbai, Maharashtra, INDIA; RightStar Systems, Vienna, VA; Satyam Computer Services Ltd., Parsippany, NJ; ScoZA Uganda Limited, Kampala, UGANDA; SevenTest R&D Centre Co. Ltd., Saint-Petersburg, RUSSIA; Tata Teleservices Ltd. Mumbai, Maharashtra, INDIA; Tech Mahindra, Andheri East, Mumbai, INDIA; Telfort B.V., Amsterdam, NETHERLANDS; The CNIA Group, Westfield, NJ; theNetStart Platform Ltd, Sheffield, UNITED KINGDOM; THUS, Glasgow, Glasgow, UNITED KINGDOM; True Click Solutions LLC, Pittsburgh, PA; Uralsvyazinform JSC, Ekaterinburg, Russia; Vernikov and Partners Group, Moscow, RUSSIA; Westwood One/Metro Networks, New York, NY; Wind Hellas Telecommunications SA, Maroussi, Athens, GREECE; Xebia BV, Hilversum, NETHERLANDS; and Zeugma Systems, Richmond, BC, CANADA, have withdrawn as parties to this venture.

The following have changed their addresses: To Technologies to Espoo, FINLAND; Aspivia Ltd to Bournemouth, UNITED KINGDOM; CHR Solutions to Houston, TX; Cordys to Putten, NETHERLANDS; CSG Systems Inc. to Englewood, CO; Devoteam Consulting A/S, Danish Telecoms Business Unit to Copenhagen, DENMARK; Eastek Pty Ltd to Melbourne, Victoria, AUSTRALIA; Exigen USA, Inc. to San Francisco, CA; i2i Bilisim Ve Teknoloji Danismanlik Tic Ltd to Gebze/Kocaeli, TURKEY; INTEC Telecom Systems to Woking, Surrey, UNITED KINGDOM; MBR Partners to Berkeley Square, London, UNITED KINGDOM; MTN SA (Pty) ltd. to Randburg, Gauteng, SOUTH AFRICA; PT Bakrie Telecom to Jakarta Selatan, Jakarta, INDONESIA; PT Global Innovation Technology to Jakarta Selatan, Jakarta, INDONESIA; Quantellia to Denver, CO; TELEFONICA to Torre Santiago, CHILE; Telesoft-Russia to Moscow, RUSSIA; Trammell Craig & Associates to Farmington, NM; Trilogy Software Bolivia to Cochabamba, BOLIVIA; and Volubill to Montbonnot Saint Martin, FRANCE.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988(53 FR 49615).

The last notification was filed with the Department on July 22, 2009. A notice was published in the Federal Register pursuant to Section 6(b) of the Act on September 17, 2009 (74 FR 47824).

Patricia A. Brink,
Deputy Director of Operations, Antitrust Division.

[FR Doc. 2010-5034 Filed 3-10-10; 8:45 am]

BILLING CODE 4410-11-M